DEPARTMENT OF AGRICULTURE

Grain Inspection, Packers and Stockyards Administration

Designation for the State of Georgia and State of Montana Areas

AGENCY: Grain Inspection, Packers and Stockyards Administration, USDA.

ACTION: Notice.

SUMMARY: GIPSA is announcing the designation of the Georgia Department of Agriculture (Georgia) and the Montana Department of Agriculture (Montana) to provide official services under the United States Grain Standards Act, as amended (USGSA).

DATES: Effective Date: July 1, 2011.

ADDRESSES: William A. Ashley, Acting Branch Chief, Quality Assurance and Designation Branch, Compliance Division, GIPSA, USDA, STOP 3604, Room 1647-S, 1400 Independence Avenue, SW., Washington, DC 20250-3604.

FOR FURTHER INFORMATION CONTACT: William A. Ashley, 202-720-8262 or William.A.Ashley@usda.gov.

Read Applications: All applications and comments will be available for public inspection at the office above during regular business hours (7 CFR 1.27(c)).

SUPPLEMENTARY INFORMATION: In the January 4, 2011, Federal Register (76 FR 317), GIPSA requested applications for designation to provide official services in the geographic areas presently serviced by the Georgia Department of Agriculture (Georgia) and the Montana Department of Agriculture (Montana). Applications were due by February 3, 2011.

Georgia and Montana were the sole applicants for designation to provide official services in these areas. As a result, GIPSA did not ask for additional comments.

GIPSA evaluated all available information regarding the designation criteria in section 7(f)(l) of the USGSA (7 U.S.C. 79(f)) and determined that Georgia and Montana are qualified to provide official services in the geographic area specified in the January 4, 2011, Federal Register for which they applied. This designation action to provide official services in these specified areas is effective July 1, 2011 and terminates on June 30, 2014.

Interested persons may obtain official services by contacting this agency at the following telephone numbers:

Official agency | Headquarters location and telephone | Designation start | Designation end
Georgia | Atlanta, GA (229) 386-3141 Additional Location: Tifton, GA | 7/1/2011 | 6/30/2014.
Montana | Helena, MT (406) 761-2141 Additional Locations: Great Falls and Plentywood, MT | 7/1/2011 | 6/30/2014.

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for no longer than 3 years unless terminated by the Secretary; however, designations may be renewed according to the criteria and procedures prescribed in section 7(f) of the Act.

Authority: 7 U.S.C. 71-87k.

J. Dudley Butler,
Administrator, Grain Inspection, Packers and Stockyards Administration.

[FR Doc. 2011-13453 Filed 5-31-11; 8:45 am]

BILLING CODE 3410-KD-P